FEDERAL COMMUNICATIONS COMMISSION

[WT Docket No. 09-64; DA 09-1096]

Wireless Telecommunications Bureau Seeks Comment on Petition of Denali Spectrum License Sub, LLC for Forbearance From Unjust Enrichment Provisions

AGENCY: Federal Communications Commission.

ACTION: Notice.

SUMMARY: This document seeks comments on the Petition filed by Denali Spectrum License Sub, LLC (Denali) on March 12, 2009. Denali asks the Commission to forbear from applying the unjust enrichment provisions of the Commission's competitive bidding rules.

DATES: Comments are due on or before June 18, 2009, and reply comments are due on or before July 6, 2009.

ADDRESSES: Comments and reply comments must be identified by WT Docket No. 09-64. Comments may be filed electronically using the Internet by accessing the Federal Communications Commission's Electronic Comment Filing System (ECFS) at http://www.fcc.gov/cgb/ecfs. Filers should follow the instructions provided on the Web site for submitting comments. For further help filing electronically, see Electronic Filing of Documents in Rulemaking Proceedings, 63 FR 24121 (1998). In addition, comments and reply comments may be submitted by any of the following methods:

• Paper Filers: Parties who choose to file by paper must file an original and four copies of each filing. Filings can be sent by hand or messenger delivery, by commercial overnight courier, or by first-class or overnight U.S. Postal Service mail (although the Bureaus continue to experience delays in receiving U.S. Postal Service mail). All filings must be addressed to the Commission's Secretary, Marlene H. Dortch, Office of the Secretary, Federal Communications Commission. Instructions for filing paper copies can be found at http://www.fcc.gov/osec/guidelines.html or by calling the Office of the Secretary at 202-418-0300.

• People with Disabilities: Contact the FCC to request reasonable accommodations (accessible format documents, sign language interpreters, CART, etc.) by e-mail: FCC504@fcc.gov or telephone: 202-418-0530 or TTY: 202-418-0432.

Commenters must also send a copy to Best Copy and Printing, Inc., 445 12th St., SW., Suite CY-B402, Washington, DC 20554, by telephone at 800-378-3160 or 202-488-5300, fax at 202-488-5563, or e-mail at fcc@bcpiweb.com.

FOR FURTHER INFORMATION CONTACT: Wireless Telecommunications Bureau, Auctions and Spectrum Access Division, Scott Mackoul at 202-418-7498. All press inquires should be directed to Matthew Nodine at 202-418-1646.

SUPPLEMENTARY INFORMATION:

1. The Commission has adopted unjust enrichment rules, which require a designated entity (DE) that has benefited from bidding credits to return some or all of those benefits if it transfers its license to a non-DE or otherwise loses its eligibility for such benefits. In 2006, the Commission revised its unjust enrichment rules, extending from five years to ten years the period during which a DE will have to repay some or all of its bidding credits if it loses eligibility for those benefits. Section 1.2111(d)(2)(i) of the Commission's rules, 47 CFR 1.2111(d)(2)(i), provides a prorated schedule for licensees that lose their eligibility for a bidding credit and were initially granted their licenses after April 25, 2006, to repay that biding credit.

2. Denali asks that the Commission forbear from applying 47 CFR 1.2111(d)(2)(i) to it in light of the prevailing economic conditions, Denali's need for additional capital to fund network deployment, and the opportunity for Denali to create jobs and extend its state-of-the-art network to under-served low income and other segments of the population. Denali asserts that forbearance from applying the unjust enrichment provisions would be consistent with recent Federal initiatives intended to stimulate the national economy and promote investment. Denali also states that as a condition on the grant of its forbearance request, it will adhere to the less stringent unjust enrichment provisions that apply to licenses granted prior to April 25, 2006.

3. The Wireless Telecommunications Bureau seeks comment on Denali's Petition. Interested parties may file comments on or before June 18, 2009, and reply comments on or before July 6, 2009.

4. Denali's Petition will be available online through ECFS, in the Commission's Public Reference Center, and from the Commission's duplicating contractor, Best Copy and Printing, Inc. (BCPI), 445 12th Street, SW., Room CY-B402, Washington, DC 20554, by telephone at 800-378-3160 or 202-488-5300, fax at 202-488-5563, or e-mail at fcc@bcpiweb.com.

5. This matter shall be treated as a permit-but-disclose proceeding in accordance with the Commission's ex parte rules.

Federal Communications Commission.
Gary D. Michaels,
Deputy Chief, Auctions and Spectrum Access Division, WTB.

[FR Doc. E9-13427 Filed 6-8-09; 8:45 am]

BILLING CODE 6712-01-P